FEDERAL MARITIME COMMISSION

Ocean Transportation Intermediary License Revocations

The Commission gives notice that the following Ocean Transportation Intermediary licenses have been revoked pursuant to section 40901 of the Shipping Act of 1984 (46 U.S.C. 40101) effective on the date shown.

License No.: 010860N.

Name: Seair Export Import Services, Inc.

Address: 921 NW 120 Avenue, Plantation, FL 33325.

Date Revoked: August 16, 2012.

Reason: Failed to maintain a valid bond.

License No.: 021171N.

Name: Pacific Groupage Services, Inc.

Address: 9024 Foxwood Drive, Keller, TX 73248.

Date Revoked: August 15, 2012.

Reason: Voluntary surrender of license.

License No.: 021444N.

Name: J & V International Shipping Corp.

Address: 1001 Fairview Avenue, Room #G, Arcadia, CA 91007.

Date Revoked: July 28, 2012.

Reason: Failed to maintain a valid bond.

License No.: 023100N.

Name: Archers Cargo Express, Inc.

Address: 6800 Jericho Turnpike, Suite #120W, Room 135, Syosset, NY 11791.

Date Revoked: June 31, 2012.

Reason: Voluntary surrender of license.

Vern W. Hill,
Director, Bureau of Certification and Licensing.

[FR Doc. 2012-22499 Filed 9-12-12; 8:45 am]

BILLING CODE 6730-01-P